DEPARTMENT OF AGRICULTURE

Forest Service

Black Hills National Forest Advisory Board Public Meeting Dates Announced

AGENCY: Forest Service, USDA.

ACTION: Notice of meetings.

SUMMARY: The Black Hills National Forest Advisory Board (NFAB) has announced its meeting dates for 2011. These meetings are open to the public, and public comment is accepted at any time in writing, at the pleasure of the Chair, and during the last 15 minutes of each meeting, limited to three (3) minutes per person for oral comments.

Meeting dates are the third Wednesday of each month unless otherwise indicated:

January 5 (first Wednesday).

February 16.

March 16.

April 20.

May 18.

June 15.

July (No Meeting).

August 17 (Summer Field Trip—TBA).

September 21.

October 19.

November 16.

December (No Meeting).

January 4, 2012 (Tentative).

ADDRESSES: Meetings will begin at 1 p.m. and end no later than 5 p.m. at the Forest Service Center, 8221 S. Highway 16, Rapid City, SD 57702.

Agendas: The Board will consider a variety of issues related to national forest management. Agendas will be announced in advance but principally concern implementing phase two of the forest land and resource management plan. The Board will consider such topics as integrated vegetation management (wild and prescribed fire, fuels reduction, controlling insect epidemics, invasive species), travel management (off highway vehicles, the new OHV rule, and related topics), and continuing access to multiple-use management of public lands, among others.

FOR FURTHER INFORMATION CONTACT: Frank Carroll, Committee Management Officer, Black Hills National Forest, 1019 N. 5th Street, Custer, SD, 57730, (605) 673-9200.

Dated: December 8, 2010.
Craig Bobzien,
Forest Supervisor.

[FR Doc. 2010-31431 Filed 12-14-10; 8:45 am]

BILLING CODE 3410-11-P